DEPARTMENT OF HEALTH AND HUMAN SERVICES

Centers for Disease Control and Prevention

National Task Force on Fetal Alcohol Syndrome and Fetal Alcohol Effect: Meeting

In accordance with section 10(a)(2) of the Federal Advisory Committee Act (Pub. L. 92-463), the Centers for Disease Control and Prevention (CDC) announces the following Federal advisory committee meeting.

Name: National Task Force on Fetal Alcohol Syndrome and Fetal Alcohol Effect (NTFFASFAE).

Times and Dates: 8:30 a.m.-5 p.m., December 10, 2001; 8:30 a.m.-3 p.m., December 11, 2001.

Place: Loews L'Enfant Plaza Hotel, 480 L'Enfant Plaza, SW., Washington, DC 20024-2197, telephone 202/484-1000, fax 202/646-4456.

Status: Open to the public, limited only by the space available. The meeting room accommodates approximately 65 people.

Purpose: The Secretary is authorized by the Public Health Service Act, section 399G, (42 U.S.C. section 280f, as added by Public Law 105-392) to establish a National Task Force on Fetal Alcohol Syndrome and Fetal Alcohol Effect to: (1) Foster coordination among all governmental agencies, academic bodies and community groups that conduct or support Fetal Alcohol Syndrome (FAS) and Fetal Alcohol Effect (FAE) research, programs and surveillance; and (2) to otherwise meet the general needs of populations actually or potentially impacted by FAS and FAE.

Matters to be Discussed: The Task Force will convene to discuss updates presented by CDC and other Federal agencies regarding new activities in FAS and FAE. Additional agenda items include: a joint session with the Interagency Coordinating Committee on Fetal Alcohol Syndrome, HHS; working group updates; discussion of future topics, and scheduling the next meeting.

Agenda items are subject to change as priorities dictate.

Due to programmatic issues that had to be resolved, the Federal Register notice is being published less than fifteen days before the date of the meeting.

Contact Person for More Information: R. Louise Floyd, DSN, RN, Executive Secretary, NTFFASFAE, National Center for Environmental Health, CDC, 4700 Buford Highway, NE., (F-49), Atlanta, Georgia 30333, telephone 770/488-7372, fax: 770/488-7361.

The Director, Management Analysis and Services Office, has been delegated the authority to sign Federal Register notices pertaining to announcements of meetings and other committee management activities for both the CDC and ATSDR.

Dated: November 28, 2001.
John Burckhardt,
Acting Director, Management Analysis and Services Office, Centers for Disease Control and Prevention.

[FR Doc. 01-29953 Filed 12-3-01; 8:45 am]

BILLING CODE 4163-18-P